DEPARTMENT OF TRANSPORTATION

Federal Aviation Administration

Notice of Availability of the Final Environmental Assessment and Mitigated Finding of No Significant Impact/Record of Decision for SpaceX Falcon 9 Operations at Space Launch Complex 40 (SLC-40), Cape Canaveral Space Force Station, Florida

AGENCY: Federal Aviation Administration (FAA), Department of Transportation (DOT).

ACTION: Notice of availability.

SUMMARY: The FAA is announcing the availability of the Final Environmental Assessment and Mitigated Finding of No Significant Impact/Record of Decision for SpaceX Falcon 9 Operations at Space Launch Complex-40 at Cape Canaveral Space Force Station, Florida (Final EA). The Final Environmental Assessment analyzes: Up to 120 Falcon 9 launches annually at SLC-40, which represents an annual increase of 70 launches from the 50 previously analyzed in a July 2020 EA; construction and operation of a landing zone at SLC-40; and up to 34 first-stage booster landings at the new landing zone annually. The Final EA also evaluates the potential environmental impacts associated with FAA's approval of related airspace closures. The FAA has posted the Final Environmental Assessment and Mitigated Finding of No Significant Impact/Record of Decision on the FAA Office of Commercial Space Transportation website: https://www.faa.gov/space/stakeholder_engagement/SpaceX_Falcon_SLC_40_EA.

The Unique ID for this document is EAXX-021-12-000-1737545438.

FOR FURTHER INFORMATION CONTACT: Eva Long via the project email address at SpaceXFalconSLC40@icf.com.

SUPPLEMENTARY INFORMATION: The FAA published the Draft Environmental Assessment for public comment on March 14, 2025. A public meeting was scheduled for April 16, 2025. The public comment period was extended to May 15, 2025, due to the national Zoom outage on April 16, 2025, and the public meeting was rescheduled for May 8, 2025. The FAA received 4,275 public comments on the Draft Environmental Assessment. The Final Environmental Assessment considers all input provided on the Draft Environmental Assessment and addresses substantive comments received, as appropriate.

The United States Department of the Air Force (DAF) is a cooperating agency for this Final EA. To meet the DAF's National Environmental Policy Act requirements for adopting the FAA's Environmental Assessment as a cooperating agency, (see 32 CFR 989.15(e) (2024)), FAA posted a link to the Draft Finding of No Significant Impact (Draft FONSI) for public comment on behalf of the DAF. The DAF may adopt the Final EA and issue a separate decision document.

Issued in Washington, DC on: August 29, 2025.
Stacey Molinich Zee,
Manager, Operations Support Branch.

[FR Doc. 2025-16880 Filed 9-2-25; 8:45 am]

BILLING CODE 4910-13-P